DEPARTMENT OF VETERANS AFFAIRS

Joint Biomedical Laboratory Research and Development and Clinical Science Research and Development Services Scientific Merit Review Board Notice of Meetings

The Department of Veterans Affairs (VA) gives notice under Federal Advisory Committee Act that the subcommittees of the Joint Biomedical Laboratory Research and Development and Clinical Science Research and Development Services Scientific Merit Review Board (JBL/CS SMRB) will meet from 8 a.m. to 5 p.m. on the dates indicated below (unless otherwise listed):

Subcommittee | Date | Location
Oncology-A/D | May 17, 2019 | 20 F Conference Center.
Cellular & Molecular Medicine | May 20, 2019 | 20 F Conference Center.
Endocrinology-A | May 21, 2019 | 20 F Conference Center.
Neurobiology-C | May 21, 2019 | 20 F Conference Center.
Mental Health & Behavioral Sciences-A | May 22, 2019 | 20 F Conference Center.
Oncology-B/E | May 22, 2019 | 20 F Conference Center.
Surgery | May 22, 2019 | 20 F Conference Center.
Cardiovascular Studies-A | May 23, 2019 | 20 F Conference Center.
Infectious Diseases-A | May 23, 2019 | 20 F Conference Center.
Oncology-C | May 23, 2019 | 20 F Conference Center.
Endocrinology-B | May 29, 2019 | 20 F Conference Center.
Immunology & Dermatology-A | May 29, 2019 | 20 F Conference Center.
Neurobiology-B | May 29, 2019 | 20 F Conference Center.
Infectious Diseases-B | May 30, 2019 | 20 F Conference Center.
Pulmonary Medicine | May 30, 2019 | 20 F Conference Center.
Gulf War Research | May 30, 2019 | 20 F Conference Center.
Neurobiology-A | May 31, 2019 | 20 F Conference Center.
Neurobiology-E | May 31, 2019 | 20 F Conference Center.
Gastroenterology | June 4, 2019 | 20 F Conference Center.
Nephrology | June 4, 2019 | 20 F Conference Center.
* Neurobiology-F | June 5, 2019 | VA Central Office.
Cardiovascular Studies-B | June 6, 2019 | 20 F Conference Center.
Epidemiology | June 6, 2019 | 20 F Conference Center.
Mental Health & Behavioral Sciences-B | June 6, 2019 | 20 F Conference Center.
Hematology | June 7, 2019 | 20 F Conference Center.
Neurobiology-D | June 7, 2019 | 20 F Conference Center.
Eligibility | July 22, 2019 | 20 F Conference Center.
The addresses of the meeting sites are: 20 F Conference Center, 20 F Street NW, Washington, DC; VA Central Office, 1100 First Street NE, Suite 600, Washington, DC.
* Teleconference

The purpose of the subcommittees is to provide advice on the scientific quality, budget, safety and mission relevance of investigator-initiated research applications submitted for VA merit review evaluation. Applications submitted for review include various medical specialties within the general areas of biomedical, behavioral and clinical science research.

These subcommittee meetings will be closed to the public for the review, discussion, and evaluation of initial and renewal research applications, which involve reference to staff and consultant critiques of research applications. Discussions will deal with scientific merit of each application and qualifications of personnel conducting the studies, the disclosure of which would constitute a clearly unwarranted release of proprietary processes and data. Additionally, premature disclosure of research information could significantly obstruct implementation of proposed agency action regarding the research applications. As provided by subsection 10(d) of Public Law 92-463, as amended by Public Law 94-409, closing the subcommittee meetings is in accordance with Title 5 U.S.C. 552b(c) (6) and (9)(B).

Those who would like to obtain a copy of the minutes from the closed subcommittee meetings and rosters of the subcommittee members should contact Holly Krull, Ph.D., Manager, Merit Review Program (10X2B), Department of Veterans Affairs, 810 Vermont Avenue NW, Washington, DC 20420, at (202) 632-8522 or email at holly.krull@va.gov.

Dated: April 25, 2019.
LaTonya L. Small,
Federal Advisory Committee Management Officer.

[FR Doc. 2019-08695 Filed 4-29-19; 8:45 am]

BILLING CODE P